DEPARTMENT OF COMMERCE

National Telecommunications and Information Administration

Regional Roundtables on Broadband Program Sustainability

AGENCY: National Telecommunications and Information Administration, U.S. Department of Commerce.

ACTION: Notice of regional roundtables on broadband program sustainability.

SUMMARY: The National Telecommunications and Information Administration's (NTIA) Office of internet Connectivity and Growth (OICG) administers the following grant programs: the Broadband, Equity, Access, and Deployment (BEAD) Program, the Digital Equity (DE) Grant Programs, the Broadband Infrastructure Program (BIP), the Connecting Minority Communities (CMC) Pilot Program, the Enabling Middle Mile Broadband Infrastructure (MM) Program, and the Tribal Broadband Connectivity Program (TBCP). NTIA will host seven (7) regional meetings for grantees of these programs between February and May 2025. These events will provide technical assistance and oversight and conclude with a regional roundtable that enables the public to engage with grantees, local experts, and other stakeholders working to address digital inequities. During these regional roundtables, attendees will participate in critical discussions on how the internet for All programs are impacting communities and strategies for making those investments and initiatives last. Each regional roundtable program will feature experts from local and State governments, public interest groups, academia, and industry. They will also provide platforms for public and private stakeholders to align on shared goals for every resident to experience the benefits of technology.

DATES: NTIA will hold the regional roundtables based on the following schedule. Participants can attend more than one meeting, but NTIA encourages everyone to attend the regional roundtables closest to their community:

1. Regional Roundtable on Broadband Program Sustainability #1—Southeast: ATLANTA, GA—February 14, 2025, 1 p.m.-4 p.m.

2. Regional Roundtable on Broadband Program Sustainability #2—Northern Plains: BOULDER, CO—March 11, 2025, 1 p.m.-4 p.m.

3. Regional Roundtable on Broadband Program Sustainability #3—West: SAN DIEGO, CA—March 19, 2025, 1 p.m.-4 p.m.

4. Regional Roundtable on Broadband Program Sustainability #4—Southwest: AUSTIN, TX—April 9, 2025, 1 p.m.-4 p.m.

5. Regional Roundtable on Broadband Program Sustainability #5—Alaska and Territories: ANCHORAGE, AK—April 23, 2025, 1 p.m.-4 p.m.

6. Regional Roundtable on Broadband Program Sustainability #6—Northeast: BOSTON, MA—May 14, 2025, 1 p.m.-4 p.m.

7. Regional Roundtable on Broadband Program Sustainability #7—Midwest: CHICAGO, IL—May 22, 2025, 1 p.m.-4 p.m.

ADDRESSES: These regional roundtables will be held in-person. All general sessions will be streamed for virtual participants. Virtual participants will receive the streaming link upon registration. NTIA will post the registration information on its BroadbandUSA website at https://broadbandusa.ntia.doc.gov/events/latest-events. On-site registration will also be available, but pre-registration is encouraged to receive important logistical information prior to the event.

FOR FURTHER INFORMATION CONTACT: Maci Morin, National Telecommunications and Information Administration, U.S. Department of Commerce, Room 4843, 1401 Constitution Avenue NW, Washington, DC 20230; telephone: (202) 578-6304; email: internetForAll@ntia.gov. Please direct media inquiries to NTIA's Office of Public Affairs, (202) 482-7002; email press@ntia.gov.

SUPPLEMENTARY INFORMATION: The Infrastructure Investment and Jobs Act (IIJA) (Pub. L. 117-58) authorized and funded five new broadband grant programs to be administered by NTIA: the Broadband Equity, Access, and Deployment Program; the Enabling Middle Mile Broadband Infrastructure Program; and the Digital Equity Act Programs, which include the State Digital Equity Planning Grant Program, State Digital Equity Capacity Grant Program, and Digital Equity Competitive Grant Program. The Broadband Equity, Access, and Deployment Program is a $42.45 billion formula-based program to States, territories, and the District of Columbia for qualifying broadband deployment, mapping, and adoption projects. The Enabling Middle Mile Broadband Infrastructure Program is a competitive $1 billion grant program for the construction, improvement or acquisition of middle-mile infrastructure. The Digital Equity Act Programs—which includes the State Digital Equity Planning Grant Program, State Digital Equity Capacity Grant Program, and the Digital Equity Competitive Grant Program—allocate $2.75 billion to promote digital inclusion and equity for communities that lack the skills, technologies, and support needed to take advantage of broadband connections.

Additionally, the Consolidated Appropriations Act (CAA), 2021 (Pub. L. 116-260) authorized three new broadband grant programs to be administered by NTIA: the Broadband Infrastructure Program (BIP), the Tribal Broadband Connectivity Program (TBCP), and the Connecting Minority Communities Pilot Program (CMC). The Broadband Infrastructure Program is a $288 million broadband deployment program directed to partnerships between a State, or one or more political subdivisions of a State, and providers of fixed broadband service to support broadband infrastructure deployment to areas lacking broadband, especially rural areas. The Tribal Broadband Connectivity Program—created under the CAA and receiving additional funding under IIJA—is now a $3 billion program directed to tribal governments to be used for broadband deployment on tribal lands, as well as for telehealth, distance learning, broadband affordability, and digital inclusion. The Connecting Minority Communities Pilot Program is a $268 million grant program to Historically Black Colleges and Universities, Tribal Colleges and Universities, and Minority-Serving Institutions for the purchase of broadband internet access service and eligible equipment or to hire and train information technology personnel.

These regional roundtables are subject to change. Session time changes will be posted on the BroadbandUSA website at https://broadbandusa.ntia.doc.gov/events/latest-events. Any event cancellations will also be posted on the same website. Any date change to a scheduled regional roundtable will be provided in a notice in the Federal Register.

Recordings and transcripts of all previously streamed sessions will be posted on the BroadbandUSA website at https://broadbandusa.ntia.doc.gov and NTIA's YouTube channel at: https://www.youtube.com/ntiagov within fourteen (14) days following the live session.

All members of the public are invited to participate in these regional roundtables. All attendees will be provided a “Know Before You Go” guide at least seven (7) days prior to the regional roundtables. Grantees are asked to register for the events on the BroadbandUSA website at https://broadbandusa.ntia.doc.gov/events/latest-events. Each registrant to provide their first and last name, city, state, zip code, job title, organization and email address for registration purposes.

Individuals requiring accommodations such as sign language interpretation or other ancillary aids, are asked to notify the NTIA contact listed above at least fourteen (14) business days before the event. General questions and comments are welcome via email to internetForAll@ntia.gov.

Dated: December 11, 2024.
Stephanie Weiner,
Chief Counsel, National Telecommunications and Information Administration.

[FR Doc. 2024-30271 Filed 12-18-24; 8:45 am]

BILLING CODE 3510-60-P